DEPARTMENT OF ENERGY

Federal Energy Regulatory Commission

[Docket No. RP00-332-005]

ANR Pipeline Company; Notice of Compliance Filing

June 2, 2003.

Take notice that on May 28, 2003, ANR Pipeline Company, (ANR) tendered for filing as part of its FERC Gas Tariff, Second Revised Volume No. 1, the tariff sheets in Appendix A to the filing, with an effective date of July 1, 2003.

ANR states that these tariff sheets are being filed in compliance with Article 5 of the Stipulation and Agreement submitted in the above-referenced docket on July 10, 2001 (the Settlement), and the Commission's April 9 Order issued in the above-referenced docket. ANR Pipeline Company, 101 FERC § 61,022 (2003).

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 9, 2003.
Magalie R. Salas,
Secretary.

[FR Doc. 03-14501 Filed 6-9-03; 8:45 am]

BILLING CODE 6717-01-P